DEPARTMENT OF TRANSPORTATION

Coast Guard

46 CFR Parts 28, 109, 122, 131, 169, 185, and 199

[USCG-2001-11118]

RIN 2115-AG28

Liferaft Servicing Intervals

AGENCY: Coast Guard, DOT.

ACTION: Final rule.

SUMMARY: The Coast Guard is amending its commercial vessel regulations to provide consistency in the requirements for servicing of inflatable liferafts and inflatable buoyant apparatus (IBA). This rule will eliminate an unnecessary burden on vessel operators and will eliminate confusion among the public and Coast Guard field personnel. The rule will defer the first servicing of a new liferaft or IBA to 2 years after initial packing on all commercial vessels not certificated under the International Convention for the Safety of Life at Sea (SOLAS).

DATES: This final rule is effective September 30, 2002.

ADDRESSES: Comments and material received from the public, as well as documents mentioned in this preamble as being available in the docket, are part of docket USCG-2001-11118 and are available for inspection or copying at the Docket Management Facility, U.S. Department of Transportation, room PL-401 on the Plaza level of the Nassif Building, 400 Seventh Street, SW., Washington, DC, between 9 a.m. and 5 p.m., Monday through Friday, except Federal holidays. You may also find this docket on the Internet at http://dms.dot.gov.

FOR FURTHER INFORMATION CONTACT: If you have questions on this rule, contact Kurt Heinz, Coast Guard, telephone 202-267-1444; e-mail kheinz@comdt.uscg.mil. If you have questions on viewing the docket, call Dorothy Beard, Chief, Dockets, Department of Transportation, telephone 202-366-5149.

SUPPLEMENTARY INFORMATION:

Regulatory History

On March 5, 2002, we published a notice of proposed rulemaking (NPRM) entitled “Liferaft Servicing Intervals” in the Federal Register (67 FR 9939).

On March 14, 2002, the Federal Register (67 FR 11549) published a correction for the table entitled “Current and Proposed Intervals for Initial Servicing of Liferafts on Commercial, Non-Solas Vessels” that was in the preamble of the NPRM.

Background and Purpose

This rule amends the Coast Guard's commercial vessel regulations to provide consistency in the requirements for servicing of inflatable liferafts and IBAs. It harmonizes the servicing intervals specified in the vessel regulations in 46 CFR subchapters I-A, K, R, T, and W with the general requirement in the liferaft regulations at 46 CFR 160.151-57 in subchapter Q, consistent with the stated intent of that regulation. This rule will eliminate the confusion caused by ambiguous or conflicting provisions in the various commercial vessel regulations, and reduce the burden on the public by avoiding potential unnecessary servicing of new inflatable liferafts.

In addition, to maintain internal consistency, the rule revises §§ 169.513(b) and 169.531 in 46 CFR subchapter R (sailing school vessels) to update requirements for obsolete types of liferafts that are no longer manufactured. The revised sections require comparable types of liferafts that are approved and manufactured under current regulations, but allow existing liferafts on the vessel to remain in use as long as they are in good and serviceable condition. Additional conforming editorial changes to the commercial fishing industry vessel regulations in 46 CFR subchapter C, and to subchapter L, harmonize the specific wording between the various individual vessel subchapters to the extent possible.

Because of its unique structure, subchapter W, which contains liferaft-servicing requirements referenced by various subchapters, necessitated a slightly different approach than the other vessel subchapters. Amendments were made to two sections in subchapter W, 46 CFR 199.190 and 199.620, which included a correction of an existing error in table 199.620(a). You can find additional background information on this rule in the preamble of the NPRM (67 FR 9939, March 5, 2002).

As authorized by 5 U.S.C. 553(d)(1) and (3), we are making this rule effective September 30, 2002—less than 30 days after its publication in the Federal Register. This final rule relieves a regulatory burden by deferring the first servicing of a new liferaft or IBA to 2 years on all commercial vessels not certificated under the International Convention for the Safety of Life at Sea (SOLAS). In addition, good cause exists for making the rule effective before October 1, 2002, because by doing so we ensure that the rule will be codified in 46 CFR this October rather than October 2003.

Discussion of Comments

The Coast Guard received two letters commenting on the proposed rule. One letter was from a liferaft servicing facility, and the other was from the Ferry Division of a state Department of Transportation. No public hearing was requested and none was held. We did not make any changes to the rule based on the comments we received.

The comment received from a state public ferry agency, while noting that it probably fell outside of the scope of the rulemaking, suggested that the servicing interval for inflatable liferafts and inflatable buoyant apparatus on non-SOLAS vessels on inland routes should be extended from annually, as currently required, to once every 2 years. The letter cited as justification that most items of equipment packed inside liferafts have a service life of at least 3 years, and that the risk of incidental damage and wear from removing the survival craft from its container for annual servicing is greater than the risk of extending the service interval.

The Coast Guard agrees that the suggestion is outside the scope of the rulemaking. Moreover, the suggestion is not supported by any currently available data. The requirement for annual servicing is supported by decades of satisfactory operational experience. Contrary to the assertion that removing the unit from its container annually for servicing imposes unnecessary wear and tear and increases the possibility of incidental damage, there is evidence that unfolding, inflating, and repacking the liferaft may actually serve to avoid degradation of the fabric coating at the creases.

A comment from a liferaft servicing facility suggested that the meaning of “installation date” needed to be clarified. This term, however, is not used anywhere in the existing or proposed rules.

Servicing intervals are measured throughout from the time the liferaft was “serviced or first packed,” with extensions permitted for time the liferaft spends indoors in controlled temperature storage. Thus, the significant date is not the date of installation, but rather the date the liferaft leaves controlled indoor storage. Whether the appropriate servicing interval is one year (for a SOLAS raft, or any other raft that is not new) or two years (for a new raft on a non-SOLAS ship), the time period for the appropriate servicing interval starts at the time the raft leaves controlled indoor storage as specified in 46 CFR 160.151-57(n)(2)-(3). We are working with the liferaft industry to explore methods to improve implementation of the sticker requirements for liferafts held in storage, with the goal of maximizing the effectiveness of the sticker system for both vessel operators and enforcement personnel.

The same letter suggested that in order to accommodate the proposed rules, manufacturers of liferafts and liferaft components would need to change their instructions to servicing facilities, since in many cases equipment items (e.g., repair cements, batteries) require annual replacement. This is already addressed, however, in 46 CFR 160.151-57(n)(1)(i), which specifies that in order to apply the extended service interval for a new liferaft, dated survival equipment in the liferaft must not expire before the expiration date of the servicing expiration sticker. Each manufacturer has the option of providing suitable equipment to allow for the extension of the initial servicing interval.

A comment from the servicing facility agreed with the extension of servicing intervals to coincide with scheduled vessel inspections, but suggested that a vessel operator should have to demonstrate reasonable justification, and request and obtain approval in writing of the extension from the Officer in Charge, Marine Inspection (OCMI). Since the grounds for the extension are clear and specific in the rule, we disagree that any justification, beyond evidence that an inspection for certification is scheduled within 5 months of the servicing expiration date, is needed. Consequently, we do not see any need to impose an administrative burden on both the vessel operator and the OCMI to obtain an extension, which should, in fact, be automatic if the specified condition is met.

A final comment from the servicing facility suggested that the extension of the servicing interval for liferafts should specifically exclude extension of the replacement of a hydrostatic release unit used with the liferaft. The comment noted that some vessel operators conveniently assume that the two are serviced together. While we agree that the extension of servicing intervals permitted by this rule applies only to liferafts or IBAs, and not to any hydrostatic release units used in their securing arrangements, we do not agree that it is necessary to specify in the rule those items to which it does not apply. Hydrostatic release units have their own servicing or replacement dates, and can be easily replaced by a vessel operator without removing the liferaft or IBA they secure.

We are adopting our proposed rule as our final rule without any changes.

Regulatory Evaluation

This rule is not a “significant regulatory action” under section 3(f) of Executive Order 12866, Regulatory Planning and Review, and does not require an assessment of potential benefits and costs under section 6(a)(3) of that Order. The Office of Management and Budget (OMB) has not reviewed it under that Order. It is not “significant” under the regulatory policies and procedures of the Department of Transportation (DOT) (44 FR 11040, February 26, l979). A Regulatory Evaluation supporting this conclusion is available in the docket as indicated under ADDRESSES. A summary of that analysis follows:

Assessment: We analyzed benefits and costs of deferring the first liferaft servicing to 2 years (instead of 1 year) after initial packing for any non-SOLAS vessel subject to the liferaft servicing requirements in subchapters I-A, K, R, T, or W. There are 5,965 vessels that will be affected, for which we assumed a zero population growth rate. Furthermore, we assumed that vessels would carry 25-person liferafts with an average lifespan of 12 years, and that the number of liferafts carried by each vessel would be a function of the crew size and the passenger capacity of each vessel.

Benefits: The total present value benefit for this rule for the 10-year period will be $7,700,824 (7 percent discount rate). Owners and operators of affected vessels will accrue benefits as reduced operating costs. These benefits are a function of (1) the number of liferafts that will no longer be required to be serviced the first year after manufacture and (2) the fees imposed by the servicing companies.

In addition, we recognize that other benefits of the rule exist but cannot be quantified, particularly the easing of confusion of both the public and Coast Guard personnel caused by vague and conflicting provisions. Furthermore, vessel owners will benefit by eliminating the opportunity cost of time associated with liferaft servicing during the first year after manufacture. Therefore, the total benefits may be higher if the qualitative benefits were represented in monetary terms.

Costs: This rule will not impose costs on vessel owners and operators. In view of the stringent production testing and inspections to which new liferafts are subjected, and the lack of any history over the last 10 years of operational problems associated with new liferafts where servicing has been deferred, the Coast Guard does not believe the rule will have any adverse impact on the safety of liferafts and IBAs.

Small Entities

Under the Regulatory Flexibility Act (5 U.S.C. 601-612) and Executive Order 13272, Proper Consideration of Small Entities in Agency Rulemaking, we have considered whether this rule will have a significant economic impact on a substantial number of small entities. The term “small entities” comprises small businesses, not-for-profit organizations that are independently owned and operated and are not dominant in their fields, and governmental jurisdictions with populations of less than 50,000.

Since this rulemaking will not impose costs on owners or operators of affected vessels there are no economic impacts on small entities. The rule provides benefits as reduced maintenance time and operating costs for all entities by deferring the first liferaft servicing from 1 year to 2 years after initial packing.

The Coast Guard certifies under 5 U.S.C. 605(b) that this final rule will not have a significant economic impact on a substantial number of small entities because there are no costs to vessel owners/operators associated with the rule.

Assistance for Small Entities

Under section 213(a) of the Small Business Regulatory Enforcement Fairness Act of 1996 (Public Law 104-121), we want to assist small entities in understanding the rule so that they can better evaluate its effects on them and participate in the rulemaking. If the rule would affect your small business, organization, or governmental jurisdiction and you have questions concerning its provisions or options for compliance, please consult Kurt Heinz at 202-267-1444. We asked for comments during the NPRM rulemaking process. We did not receive comments specifically related to small business entities.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this rule might impact tribal governments, even if that impact may not constitute a “tribal implication” under the Order.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (34)(d), of Commandant Instruction M16475.lD, this rule is categorically excluded from further environmental documentation. This rule resolves inconsistencies in required intervals for liferaft servicing and therefore will not have any impact on the environment. A “Categorical Exclusion Determination” is available in the docket where indicated under ADDRESSES.

List of Subjects

46 CFR Part 28

Fire prevention, Fishing vessels, Marine safety, Occupational safety and health, Reporting and recordkeeping requirements, Seamen.

46 CFR Part 109

Marine safety, Occupational safety and health, Oil and gas exploration, Reporting and recordkeeping requirements, Vessels.

46 CFR Part 122

Alcohol and alcoholic beverages, Drugs, Hazardous materials, Marine safety, Navigation (water), Passenger vessels, Reporting and recordkeeping requirements.

46 CFR Part 131

Hazardous materials transportation, Marine safety, Navigation (water), Offshore supply vessels, Oil and gas exploration, Operations, Penalties, Reporting and recordkeeping requirements, Vessels.

46 CFR Part 169

Fire prevention, Marine safety, Reporting and recordkeeping requirements, Schools, Vessels.

46 CFR Part 185

Marine safety, Passenger vessels, Reporting and recordkeeping requirements.

46 CFR Part 199

Cargo vessels, Incorporation by reference, Marine safety, Oil and gas exploration, Passenger vessels, Reporting and recordkeeping requirements, Vessels.

For the reasons discussed in the preamble, the Coast Guard amends 46 CFR parts 28, 109, 122, 131, 169, 185, and 199 as follows:

PART 28—REQUIREMENTS FOR COMMERCIAL FISHING INDUSTRY VESSELS

1. The authority citation for part 28 continues to read as follows:

Authority: 46 U.S.C. 3316, 4502, 4505, 4506, 6104, 10603; 49 CFR 1.46.

2. In § 28.140, revise paragraphs (b) and (c), and table 28.140 to read as follows:

§ 28.140 Operational readiness, maintenance, and inspection of lifesaving equipment.

* * * * *

(b) Each item of lifesaving equipment, including unapproved equipment, must be maintained and inspected in accordance with:

(1) Table 28.140 in this section;

(2) The servicing procedure under the subpart of this chapter applicable to the item's approval; and

(3) The manufacturer's guidelines.

(c) An inflatable liferaft or inflatable buoyant apparatus must be serviced no later than the month and year on its servicing sticker affixed under 46 CFR 160.151-57(n), and whenever the container is damaged or the container straps or seals are broken. It must be serviced at a facility specifically approved by the Commandant for the particular brand.

* * * * *

Table 28.140.—Scheduled Maintenance and Inspection of Lifesaving Equipment
Item | Interval: Monthly | Interval: Annually | Regulation
(1) Inflatable wearable personal flotation device (Type V commercial hybrid) |  | Servicing | 28.140
(2) Personal flotation devices, exposure suits and immersion suits |  | Inspect, clean and repair as necessary | 28.140
(3) Buoyant apparatus and life floats |  | Inspect, clean and repair as necessary | 28.140
(4) Inflatable liferaft |  | Servicing ¹ | 28.140
(5) Inflatable buoyant apparatus |  | Servicing ¹ | 28.140
(6) Hydrostatic release |  | Servicing ¹ | 28.140
(7) Disposable hydrostatic release |  | Replace on or before expiration date | 28.140
(8) Undated batteries |  | Replace | 28.140
(9) Dated batteries ² and other items |  | Replace on or before expiration date | 25.26-5, 28.140
(10) EPIRB | Test |  | 25.26-5
¹ For a new liferaft or inflatable buoyant apparatus, the first annual servicing may be deferred to two years from the date of first packing if so indicated on the servicing sticker.
² Water activated batteries must be replaced whenever they are used.

PART 109—OPERATIONS

3. The authority citation for part 109 continues to read as follows:

Authority: 43 U.S.C. 1333; 46 U.S.C. 3306, 6101, 10104; 49 CFR 1.46.

4. In § 109.301, revise paragraph (g)(3) to read as follows:

§ 109.301 Operational readiness, maintenance, and inspection of lifesaving equipment.

* * * * *

(g) * * *

(3) An inflatable liferaft must be serviced at a facility specifically approved by the Commandant for the particular brand, and in accordance with servicing procedures meeting the requirements of part 160, subpart 160.151, of this chapter—

(i) No later than the month and year on its servicing sticker affixed under 46 CFR 160.151-57(n), except that servicing may be delayed until the next scheduled inspection of the unit, provided that the delay does not exceed 5 months; and

(ii) Whenever the container is damaged or the container straps or seals are broken.

* * * * *

PART 122—OPERATIONS

5. The authority citation for part 122 continues to read as follows:

Authority: 46 U.S.C. 2103, 3306, 6101; E.O. 12234, 45 FR 58801, 3 CFR, 1980 Comp., p. 277; 49 CFR 1.46.

6. In § 122.730, revise paragraphs (a) and (b) to read as follows:

§ 122.730 Servicing of inflatable liferafts, inflatable buoyant apparatus, inflatable life jackets, and inflated rescue boats.

(a) An inflatable liferaft or inflatable buoyant apparatus must be serviced at a facility specifically approved by the Commandant for the particular brand, and in accordance with servicing procedures meeting the requirements of part 160, subpart 160.151, of this chapter—

(1) No later than the month and year on its servicing sticker affixed under 46 CFR 160.151-57(n), except that servicing may be delayed until the next scheduled inspection of the vessel, provided that the delay does not exceed 5 months; and

(2) Whenever the container is damaged or the container straps or seals are broken.

(b) Each inflatable lifejacket and hybrid inflatable lifejacket or work vest must be serviced:

(1) Within 12 months of its initial packing; and

(2) Within 12 months of each subsequent servicing, except that servicing may be delayed until the next scheduled inspection of the vessel, provided that the delay does not exceed 5 months.

* * * * *

PART 131—OPERATIONS

7. The authority citation for part 131 continues to read as follows:

Authority: 33 U.S.C. 1321(j); 46 U.S.C. 3306, 6101, 10104; E.O. 12234, 3 CFR, 1980 Comp., p. 277; E.O. 12777, 3 CFR, 1991 Comp., p. 351; 49 CFR 1.46.

8. In § 131.580, revise paragraphs (a) and (b) to read as follows:

§ 131.580 Servicing of inflatable liferafts, inflatable lifejackets, inflatable buoyant apparatus, and inflated rescue boats.

(a) An inflatable liferaft or inflatable buoyant apparatus must be serviced at a facility specifically approved by the Commandant for the particular brand, and in accordance with servicing procedures meeting the requirements of part 160, subpart 160.151, of this chapter—

(1) No later than the month and year on its servicing sticker affixed under 46 CFR 160.151-57(n), except that servicing may be delayed until the next scheduled inspection of the vessel, provided that the delay does not exceed 5 months; and

(2) Whenever the container is damaged or the container straps or seals are broken.

(b) Each inflatable lifejacket and hybrid inflatable lifejacket or work vest must be serviced:

(1) Within 12 months of its initial packing; and

(2) Within 12 months of each subsequent servicing, except that servicing may be delayed until the next scheduled inspection of the OSV, provided that the delay does not exceed 5 months.

* * * * *

PART 169—SAILING SCHOOL VESSELS

9. The authority citation for part 169 continues to read as follows:

Authority: 33 U.S.C. 1321(j); 46 U.S.C. 3306, 3307, 6101; E.O. 11735, 38 FR 21243, 3 CFR, 1971-1975 Comp., p. 793; 49 CFR 1.45, 1.46; § 169.117 also issued under the authority of 44 U.S.C. 3507.

10. In § 169.513, revise paragraph (b) to read as follows:

§ 169.513 Types of primary equipment.

* * * * *

(b) Inflatable liferafts. (1) Each inflatable liferaft must be a SOLAS A inflatable liferaft approved under part 160, subpart 160.151, of this chapter, except that inflatable liferafts on vessels operating on protected or partially protected waters may be SOLAS B inflatable liferafts approved under part 160, subpart 160.151, of this chapter.

(2) Each approved inflatable liferaft on the vessel on September 30, 2002, may be used to meet the requirements of this part as long as it is continued in use on the vessel, and is in good and serviceable condition.

* * * * *

11. Remove § 169.531.

§ 169.531 [Removed]

12. In § 169.837, revise paragraph (b)(4) to read as follows:

§ 169.837 Lifeboats, liferafts, and lifefloats.

* * * * *

(b) * * *

(4) Each inflatable liferaft has been serviced at a facility specifically approved by the Commandant for the particular brand, and in accordance with servicing procedures meeting the requirements of part 160, part 160.151, of this chapter—

(i) No later than the month and year on its servicing sticker affixed under 46 CFR 160.151-57(n), except that servicing may be delayed until the next scheduled inspection of the vessel, provided that the delay does not exceed 5 months; and

(ii) Whenever the container is damaged or the container straps or seals are broken.

PART 185—OPERATIONS

13. The authority citation for part 185 continues to read as follows:

Authority: 46 U.S.C. 2103, 3306, 6101; Executive Order 12234, 45 FR 58801, 3 CFR, 1980 Comp., p. 277; 49 CFR 1.46.

14. In § 185.730, revise paragraphs (a) and (b) to read as follows:

§ 185.730 Servicing of inflatable liferafts, inflatable buoyant apparatus, inflatable life jackets, and inflated rescue boats.

(a) An inflatable liferaft or inflatable buoyant apparatus must be serviced at a facility specifically approved by the Commandant for the particular brand, and in accordance with servicing procedures meeting the requirements of part 160, subpart 160.151, of this chapter—

(1) No later than the month and year on its servicing sticker affixed under 46 CFR 160.151-57(n), except that servicing may be delayed until the next scheduled inspection of the vessel, provided that the delay does not exceed 5 months; and

(2) Whenever the container is damaged or the container straps or seals are broken.

(b) Each inflatable lifejacket and hybrid inflatable lifejacket or work vest must be serviced:

(1) Within 12 months of its initial packing; and

(2) Within 12 months of each subsequent servicing, except that servicing may be delayed until the next scheduled inspection of the vessel, provided that the delay does not exceed 5 months.

* * * * *

PART 199—LIFESAVING SYSTEMS FOR CERTAIN INSPECTED VESSELS

15. The authority citation for part 199 continues to read as follows:

Authority: 46 U.S.C. 3306, 3307, 3703; 49 CFR 1.46.

16. In § 199.190, revise paragraph (g)(3) to read as follows:

§ 199.190 Operational readiness, maintenance, and inspection of lifesaving equipment.

* * * * *

(g) * * *

(3) An inflatable liferaft or inflatable buoyant apparatus must be serviced at a facility specifically approved by the Commandant for the particular brand, and in accordance with servicing procedures meeting the requirements of part 160, subpart 160.151, of this chapter—

(i) No later than the month and year on its servicing sticker affixed under 46 CFR 160.151-57(n), except that servicing may be delayed until the next scheduled inspection of the vessel, provided that the delay does not exceed 5 months; and

(ii) Whenever the container is damaged or the container straps or seals are broken.

* * * * *

17. In § 199.620, in paragraph (a), revise table 199.620(a) and add a new paragraph (q) as follows:

§ 199.620 Alternatives for all vessels in a specified service.

* * * * *

Table 199.620(a).—Alternative Requirements for All Vessels in a Specified Service
Section or paragraph in this part: | Service and reference to alternative requirement section or paragraph: Oceans | Service and reference to alternative requirement section or paragraph: Coastwise | Service and reference to alternative requirement section or paragraph: Great Lakes | Service and reference to alternative requirement section or paragraph: Lakes, bays and sounds | Service and reference to alternative requirement section or paragraph: Rivers
199.70(a): Lifebuoy approval series | 199.620(b) ¹ | 199.620(b) ¹ | 199.620(b) | 199.620(b) | 199.620(b).
199.70(b): Lifejacket approval series | 199.620(c) ² | 199.620(c) ² | 199.620(c) | 199.620(c) | 199.620(c).
199.70(b)(1): Number of lifejackets carried | No Alternative | 199.620(d) | 199.620(d) | 199.620(d) | 199.620(d).
199.70(b)(4)(i): Lifejacket light approval series | No Alternative | 199.620(e) | 199.620(e) | Not Applicable | Not Applicable.
199.100(b): Manning of survival craft | No Alternative | No Alternative | No Alternative | No Alternative | 199.620(o).
199.110(f): Embarkation ladder | 199.620(f) | 199.620(f) | 199.620(f) | 199.620(f) | 199.620(f).
199.130(b): Survival craft stowage position | No Alternative | No Alternative | 199.620(g) | 199.620(g) | 199.620(g).
199.170: Line-throwing appliance approval series | 199.620(h) ² | 199.620(h) ³ | Not Applicable | Not Applicable | Not Applicable.
199.175: Lifeboat, rescue boat, and rigid liferaft equipment | 199.620(i) ⁴ | 199.620(i) | 199.620(j) | 199.620(j) | 199.620(j).
199.180 Training and drills | 199.620(p) | 199.620(p) | 199.620(p) | 199.620(p) | 199.620(p).
199.190: Spares and repair equipment | 199.620(n) | 199.620(n) | 199.620(n) | 199.620(n) | 199.620(n).
199.190(g)(3): Service Intervals for inflatable liferaft or inflatable buoyant apparatus | 199.620(q) | 199.620(q) | 199.620(q) | 199.620(q) | 199.620(q).
199.201(a)(2) or 199.261: Inflatable liferaft equipment | 199.620(l) ⁴ | 199.620(l) | 199.620(l) | 199.620(l) | 199.620(l).
199.201(a)(2) or 199.261: Liferaft approval series | No Alternative | 199.620(k) | 199.620(k) | 199.620(k) | 199.620(k).
¹ Alternative applies if lifebuoy is orange.
² Alternative applies only to cargo vessels that are less than 500 tons gross tonnage.
³ Alternative applies to cargo vessels that are less than 500 tons gross tonnage and to all passenger vessels.
⁴ Alternative applies to passenger vessels limited to operating no more than 50 nautical miles from shore.

* * * * *

(q) For a new liferaft or inflatable buoyant apparatus, the first annual servicing may be deferred to two years after initial packing if so indicated on the servicing sticker.

Dated: September 11, 2002.
Jeffrey P. High,
Acting Assistant Commandant, Marine Safety, Security and Environmental Protection.

[FR Doc. 02-23563 Filed 9-16-02; 8:45 am]

BILLING CODE 4910-15-P